DEPARTMENT OF DEFENSE

Office of the Secretary

[Transmittal No. 18-07]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-07 with attached Policy Justification.

Dated: August 7, 2018.
Shelly E. Finke,
Alternate OSD Federal Register Liaison Officer, Department of Defense.

BILLING CODE 5001-06-P

BILLING CODE 5001-06-C

Transmittal No. 18-07

Notice of Proposed Issuance of Letter of Offer Pursuant to Section 36(b)(1) of the Arms Export Control Act, as amended

(i) Prospective Purchaser: The Government of Bahrain

(ii) Total Estimated Value:

Major Defense Equipment * | $ 0 million
Other | $70 million
TOTAL | $70 million

(iii) Description and Quantity or Quantities of Articles or Services under Consideration for Purchase:

Major Defense Equipment (MDE): None

Non-MDE: Follow-On Technical Support (FOTS) for the Royal Bahrain Navy Ship SABHA (FFG-90), formerly the USS Jack Williams (FFG-24), transferred as Excess Defense Article on September 13, 1996. Also includes engineering, technical, and logistics services, documentation, and modification material for U.S. Navy supplied systems and equipment and other related elements of logistics and program support.

(iv) Military Department: Navy (BA-P-GAV, Amendment 12)

(v) Prior Related Cases, if any: BA-P-GAV

(vi) Sales Commission, Fee, etc., Paid, Offered, or Agreed to be Paid: None

(vii) Sensitivity of Technology Contained in the Defense Article or Defense Services Proposed to be Sold: None

(viii) Date Report Delivered to Congress: July 26, 2018

* As defined in Section 47(6) of the Arms Export Control Act.

POLICY JUSTIFICATION

Bahrain—Follow-On Technical Support (FOTS) for the Royal Bahrain Navy Ship SABHA (FFG-90)

The Government of Bahrain has requested to buy items and services in support of Follow-On Technical Support (FOTS) for the Royal Bahrain Navy Ship SABHA (FFG-90), formerly the USS Jack Williams (FFG-24), transferred as Excess Defense Article on September 13, 1996. Also includes engineering, technical, and logistics services, documentation, and modification material for U.S. Navy supplied systems and equipment and other related elements of logistics and program support. The estimated program value is $70 million.

This proposed sale will contribute to the foreign policy and national security objectives of the United States by helping to improve the security of a regional partner which is an important security partner in the region.

Bahrain intends to use this support in order to keep the ship in operational readiness status for coastal defense and security. Bahrain will have no difficulty absorbing this support into its armed forces.

The proposed sale of this equipment and support will not alter the basic military balance in the region.

There is no prime contractor involved in this proposed sale. There are no known offset agreements proposed in connection with this potential sale.

Implementation of this proposed sale will require approximately three (3) U.S. Government and six (6) contractor representatives to travel to Bahrain for an extended period for equipment fielding, systems checkout, training and technical and logistics support.

There will be no adverse impact on U.S. defense readiness as a result of this proposed sale.

[FR Doc. 2018-17153 Filed 8-9-18; 8:45 am]

BILLING CODE 5001-06-P